DEPARTMENT OF LABOR

Office of the Secretary

Solicitation For Grant Applications (SGA 02-19); Expanding Economic Opportunity and Income Security Through Workforce Education, Skills Training, Employment Creation and Local Economic Development

AGENCY: Bureau of International Labor Affairs, Office of Foreign Relations, Labor.

ACTION: Notice of correction.

SUMMARY: The available funding level is corrected downward from $4,000,000.00 to $3,285,000.00. All technical and administrative requirements under the SGA are unchanged. This solicitation (SGA) will be published in the Federal Register on Tuesday, August 6, 2002.

FOR FURTHER INFORMATION CONTACT: Lisa Harvey, Department of Labor, Procurement Services Center, Room N-5416, 200 Constitution Ave., NW., Washington, DC 20210, Telephone (202) 693-4570, e-mail: harvey-lisa@dol.gov.

Signed at Washington, DC, this 2nd day of August, 2002.
Lawrence J. Kuss,
Grant Officer.

[FR Doc. 02-20117 Filed 8-7-02; 8:45 am]

BILLING CODE 4510-28-M